DEPARTMENT OF COMMERCE

National Oceanic and Atmospheric Administration

50 CFR Part 679

[Docket No. 991228352-0182-03-03; I.D. 121099C, 011100D]

RIN 0648-AM83

Fisheries of the Exclusive Economic Zone Off Alaska;Emergency Interim Rules to Implement Major Provisions of the American Fisheries Act; Extension of Expiration Dates; Correction

AGENCY: National Marine Fisheries Service (NMFS), National Oceanic and Atmospheric Administration (NOAA), Commerce.

ACTION: Emergency interim rules; correction.

SUMMARY: This document corrects Table 1 of the extension of expiration dates for the emergency interim rules to implement major provisions of the American Fisheries Act, which in part revises 2000 final harvest specifications.

DATES: The correction for the interim final rule published January 28, 2000, (65 FR 4520) is effective July 20, 2000, through January 16, 2001.

FOR FURTHER INFORMATION CONTACT: Andrew Smoker, 907-586-7228.

SUPPLEMENTARY INFORMATION: This document contains corrections to the interim final rule for the extension of the expiration dates of emergency interim rules to implement the American Fisheries Act. The extension of the effective date of an interim final rule provides inshore pollock cooperatives with allocations of pollock for the second half of the 2000 fishing year and maintains sideboard restrictions to protect participants in other Alaska fisheries from negative impacts as a result of fishery cooperatives formed under the AFA.

Correction

In the interim final rule, Fisheries of the Exclusive Economic Zone Off Alaska, Emergency Interim Rules to Implement the American Fisheries Act: Extension of Expiration Dates, published on June 23, 2000 (65 FR 39107), FR Doc. 00-15857,corrections are made as follows:

1. In the document, Emergency Interim Rules to Implement the American Fisheries Act: Extension of Expiration Dates, published on June 23, 2000 (65 FR 39107), FR DOC 00-15857, on page 39109, mathematical errors were made in Table 1. Table 1 is corrected to read as follows:

* * * * *

TABLE 1.—FINAL C/D SEASON BERING SEA SUBAREA POLLOCK ALLOCATIONS TO THE COOPERATIVE AND OPEN ACCESS SECTORS OF THE INSHORE POLLOCK FISHERY. AMOUNTS ARE EXPRESSED IN METRIC TONS
| C/D season TAC | C season inside SCA ¹ | D season inside SCA
Cooperative sector |  |  |
Vessels > 99 ft | n/a | n/a | 53,502
Vessels ≤ 99 ft | n/a | n/a | 8,192
Total | 274,200 | 37,016 | 61,695
Open access sector | 17,953 | 2,424 | 4,039²
Total inshore | 292,153 | 39,440 | 65,734
¹ Steller sea lion conservation area established at § 679.22(a)(11)(iv).
² SCA limitations for vessels less than or equal to 99 ft LOA that are not participating in a cooperative will be established on an inseason basis in accordance with § 679.22(a)(11)(iv)(D)(2) which specifies that “the Regional Administrator will prohibit directed fishing for pollock by vessels catching pollock for processing by the inshore component greater than 99 ft (30.2 m) LOA before reaching the inshore SCA harvest limit during the A, B and D seasons to accommodate fishing by vessels less than or equal to 99 ft (30.2 m) inside the SCA for the duration of the inshore seasonal opening.”

* * * * *

Dated: July 13, 2000.
Penelope D. Dalton,
Assistant Administrator for Fisheries, National Marine Fisheries Service.

[FR Doc. 00-18260 Filed 7-18-00; 8:45 am]

BILLING CODE 3510-22-F